DEPARTMENT OF COMMERCE

International Trade Administration

[A-201-504]

Porcelain-on-Steel Cookware From Mexico: Final Results of Antidumping Duty Administrative Review

AGENCY: Import Administration, International Trade Administration, Department of Commerce.

ACTION: Notice of final results of antidumping duty administrative review.

SUMMARY: On November 5, 1999, the Department of Commerce published the preliminary results of the administrative review of the antidumping duty order on porcelain-on-steel cookware from Mexico. The review covers two manufacturers/exporters. The period of review is December 1, 1997, through November 30, 1998.

Based on our analysis of the comments received, we have made changes in the margin calculations. Therefore, the final results differ from the preliminary results. The final weighted-average dumping margins for the reviewed firms are listed below in the section entitled “Final Results of Review.”

EFFECTIVE DATE: May 10, 2000.

FOR FURTHER INFORMATION CONTACT: Kate Johnson or Rebecca Trainor, Import Administration, International Trade Administration, U.S. Department of Commerce, Washington, D.C. 20230; telephone: (202) 482-4929 or (202) 482-4007, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (1998).

Background

The review covers two manufacturers/exporters, Cinsa, S.A. de C.V. (Cinsa) and Esmaltaciones de Norte America, S.A. de C.V. (ENASA). The period of review (POR) is December 1, 1997, through November 30, 1998.

On November 5, 1999, the Department published in the Federal Register the preliminary results of the twelfth antidumping duty administrative review of the antidumping duty order on porcelain-on-steel cookware from Mexico (64 FR 60417). On January 14, 2000, respondents submitted a supplemental questionnaire response. On February 3, 2000, the Department published in the Federal Register a notice of extension of the time limit for the final results of this review (65 FR 5311). On February 29 and March 1, 2000, the Department conducted a verification on the issue of reimbursement.

We invited parties to comment on the preliminary results of review. A public hearing was held on March 30, 2000. At this hearing the Department gave the petitioner and the respondents an opportunity to comment further on certain issues. On April 3, 2000, the respondents filed a post-hearing submission. The petitioner declined to file a submission in response to the Department's offer. The Department has conducted this administrative review in accordance with section 751 of the Act.

Scope of Review

The products covered by this review are porcelain-on-steel cookware, including tea kettles, which do not have self-contained heating elements. All of the foregoing are constructed of steel and are enameled or glazed with vitreous glasses. This merchandise is currently classifiable under Harmonized Tariff Schedule of the United States (HTSUS) subheading 7323.94.00. Kitchenware currently classifiable under HTSUS subheading 7323.94.00.30 is not subject to the order. Although the HTSUS subheadings are provided for convenience and customs purposes, the written description of the scope of this proceeding is dispositive.

Verification

Pursuant to section 782(i) of the Act, we verified the duty reimbursement information provided by Cinsa and ENASA using standard verification procedures, including the examination of relevant sales and financial records, as well as the selection of original documentation containing relevant information. Our verification results are outlined in the public version of the verification report, dated March 15, 2000, and located in the public file in Room B-099 of the Department's main building.

Analysis of Comments Received

All issues raised in the case and rebuttal briefs by parties to this antidumping duty administrative review are addressed in the “Issues and Decision Memorandum” (Decision Memo) from Richard W. Moreland, Deputy Assistant Secretary for Import Administration, to Troy H. Cribb, Acting Assistant Secretary for Import Administration, dated May 3, 2000, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at www.ita.doc.gov/import_admin/ records/frn. The paper copy and electronic version of the Decision Memo are identical in content.

Duty Reimbursement

For the reasons outlined in the Decision Memorandum, we have found that Cinsa and ENASA have rebutted the presumption of reimbursement as to twelfth review entries when they become due.

Changes Since the Preliminary Results

Based on our analysis of comments received, we have made certain changes in the margin calculations. For a discussion of these changes, see the “Margin Calculations” section of the Decision Memo, which is on file in room B-099 at the Department and available on the Web at www.ita.doc.gov/import_admin/records/frn.

Final Results of Review

We determine that the following weighted-average margin percentages exists for the period December 1, 1997, through November 30, 1998:

Manufacturer/exporter | Margin (percent)
Cinsa | 8.96
ENASA | 27.37

The Department shall determine, and Customs shall assess, antidumping duties on all appropriate entries. In accordance with 19 CFR 351.212(b), we have calculated importer-specific assessment rates. We will direct Customs to assess the resulting percentage margin against the entered Customs values for the subject merchandise on each of that importer's entries under the relevant order during the review period.

Cash Deposit Requirements

The following deposit requirements will be effective upon publication of this notice of final results of the administrative review for all shipments of porcelain-on-steel cookware from Mexico entered, or withdrawn from warehouse, for consumption on or after the date of publication, as provided by section 751(a)(1) of the Act: (1) The cash deposit rates for Cinsa and ENASA will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 29.52. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections section 751(a)(1) and 777(i) of the Act.

Dated: May 3, 2000.
Troy H. Cribb,
Acting Assistant Secretary for Import Administration.

Appendix—List of Issues

1. Duty Reimbursement

2. Reclassification of All U.S. Sales as Constructed Export Price Sales

3. Indirect Selling Expenses Incurred in Mexico

4. Calculation of Cinsa International Corporation's Indirect Selling Expenses/Bad Debt

5. Calculation of CEP Profit

6. CEP Offset Adjustment

7. Pre-Sale Warehousing Expenses

8. Model Matching Methodology

[FR Doc. 00-11735 Filed 5-9-00; 8:45 am]

BILLING CODE 3510-DS-P